DEPARTMENT OF HEALTH AND HUMAN SERVICES

National Institutes of Health

National Heart, Lung, and Blood Institute

Request for Nominations for Members to serve on the National Institutes of Health (NIH), National, Heart, Lung, and Blood Institute's (NHLBI) National Asthma Education and Prevention Program (NAEPP) Coordinating Committee.

SUMMARY: The National Heart, Lung, and Blood Institute of the National Institutes of Health is requesting nominations for members to serve on the newly constituted National Asthma Education and Prevention Program Coordinating Committee (herein referred to as the “Committee”), a Federal advisory committee established in accordance with the Federal Advisory Committee Act. The Committee's primary mission is to provide advice to the NHLBI and other Federal agencies on matters concerning asthma and to facilitate efficient and effective exchange of information on asthma activities among the member agencies, and voluntary health organizations in order to enhance coordination of asthma-related programs and activities.

DATES: Nominations for membership received on or before April 29, 2016, will be considered in the pool of submitted nominations and from other sources as needed to meet statutory requirements for membership on the Committee. Nominations received after April 29, 2016, will be considered for future vacancies.

I. Function of the National Asthma Education and Prevention Program Coordinating Committee

The NAEPP was created to address asthma in the United States. The objectives of the Committee are to: (1) Raise awareness of patients, health professionals, and the public that asthma is a serious chronic disease and to ensure the recognition of the symptoms of asthma by patients, families, and the public and the appropriate diagnosis by health professionals, (2) continually identify Federal programs that carry out asthma-related activities, and (3) develop or update, in consultation with appropriate Federal agencies and professional voluntary health organizations, the Federal plan for responding to asthma to aid in effective control of asthma by encouraging a partnership among Federal agencies, patients, physicians, and other health professionals through modern treatment and education programs.

To accomplish these broad program goals, the Committee is made up of members from the National Heart, Lung, and Blood Institute (NHLBI), as well as other Federal agencies, intermediaries including major medical associations, voluntary health organizations, and community programs and strives to educate patients, health professionals, and the public.

II. Criteria for Members

In accordance with the Committee's charter, “The Committee will consist of up to 15 voting members. Members will consist of Federal employees, Special Government Employees (SGEs), and Representatives.”

At least three members will represent government agencies, from among the NIH national research institutes and centers involved in research with respect to asthma, the Department of Housing and Urban Development, the Centers for Disease Control and Prevention, or any other Federal departments and agencies whose programs involve health functions or responsibilities relevant to this disease.

At least three non-Federal members will serve as Special Government Employees (SGEs) selected from the health and scientific disciplines with respect to asthma. These members will be invited to serve up to four-year terms.

At least three non-Federal members will serve as Representatives from professional societies, voluntary health organizations, and community programs whose purpose is to enhance the quality of life for patients with asthma and decrease asthma-related morbidity and mortality. These members will be invited to serve up to four-year terms. There may be only one Representative per organization.

Terms of more than two years are contingent upon the renewal of the Committee charter by appropriate action prior to its termination. Members may serve after the expiration of their terms until their successors have taken office. A quorum for the conduct of business by the full Committee will consist of a majority of currently appointed members.

III. Subcommittees and Working Groups

As necessary, subcommittees and ad hoc working groups may be established by the Designated Federal Officer within the Committee's jurisdiction. The advice/recommendations of a subcommittee/working group must be deliberated by the parent advisory committee.

III. Nomination Procedures

Any interested person may nominate one or more qualified persons for membership on the National Asthma Education and Prevention Program Coordinating Committee. Self-nominations are also accepted. The Department strives to ensure that the membership of HHS Federal advisory committees is fairly balanced in terms of points of view represented and the committee's function. Every effort is made to ensure that the views of diverse ethnic and racial groups and people with disabilities are represented on HHS Federal advisory committees, and the Department therefore, encourages nominations of qualified candidates from these groups. The Department also encourages geographic diversity in the composition of the Committee. Appointment to this Committee shall be made without discrimination on the basis of age, race, ethnicity, gender, sexual orientation, disability, and cultural, religious, or socioeconomic status. Nominations must include a current resume or curriculum vitae of each nominee, including current business address, telephone number, and email address, a brief explanation of the nominee's qualifications for the committee, experience and activity on boards, committees, and/or membership in advocacy groups dealing with asthma. Nominations must also acknowledge that the nominee is aware of the nomination and is willing to serve as a member.

All nominations for membership should be submitted through the “Nomination Form for Members” Form located at this link http://www.nhlbi.nih.gov/about/org/naepp/. In addition to submission of a completed nomination form, the candidate's current resume or curriculum vitae will be required.

FOR FURTHER INFORMATION CONTACT: Rachael Tracy, Center for Translation Research and Implementation Science (CTRIS), National Heart, Lung, and Blood Institute, 6705 Rockledge Drive, 6th Floor, Suite 6070, Bethesda, MD 20892, Phone: 301-496-1051, FAX: 301-402-1051, Email: tracyr@mail.nih.gov.

Dated: March 30, 2016.
Jennifer Spaeth,
Director, Office of Federal Advisory Committee Policy.

[FR Doc. 2016-07678 Filed 4-4-16; 8:45 am]

BILLING CODE 4140-01-P